DEPARTMENT OF THE INTERIOR

Bureau of Ocean Energy Management

Adjustment of Service Fees for Outer Continental Shelf Activities

AGENCY: Bureau of Ocean Energy Management (BOEM), Interior.

ACTION: Adjustment of Service Fees.

SUMMARY: This notice informs all lessees, operators, permittees, and right-of-way (ROW) holders that certain BOEM fees are being adjusted for inflation, as provided for in BOEM regulations at 30 CFR § 550.125 and 30 CFR § 556.63.

DATES: Effective Date: This Adjustment of Service Fees becomes effective on February 2, 2013.

ADDRESSES: Questions related to the calculations underlying the cost recovery fee adjustments should be directed to: U.S. Department of the Interior, Bureau of Ocean Energy Management, Economics Division, 381 Elden Street, HM 3310, Herndon, Virginia 20170.

FOR FURTHER INFORMATION CONTACT: Peter Meffert, Office of Policy, Regulations and Analysis, (703) 787-1610 or at Peter.Meffert@BOEM.gov.

SUPPLEMENTARY INFORMATION: Regulations at 30 CFR § 550.125 and 30 CFR § 556.63 provide the authority for BOEM to adjust a number of its cost recovery service fees on an annual basis. These fees were last updated in 2008, with Federal Register Notice 73 FR 49943. BOEM is now adjusting various cost recovery fees to reflect inflation since the last update.

This notice informs all relevant parties that the fees are being adjusted in accordance with BOEM regulations at 30 CFR § 550.125 and 30 CFR § 556.63. The proposed 2012 Fee Amount is based on the Implicit Price Deflator value of 6.72 percent; this value is based on inflation from 2007 through 2011.

The inflation rate between any two years is calculated as the percentage difference between the measure of the level of prices for a designated year (e.g., 2011) and some previous year (e.g., 2007) of all new, domestically produced, final goods and services in the economy for the designated year (e.g., 2011), as contained in the Department of Commerce's Bureau of Economic Analysis (BEA) Table 1.1.9, Implicit Price Deflators for Gross Domestic Product, available at http://www.bea.gov/national/pdf/dpga.pdf. We expect BEA to revise the rate during future updates and, as in the last few years, we expect revisions to be upward. Even if BEA revises the inflation rate, BOEM will retain the published fee schedule until BOEM's next fee recalculation.

The following table highlights those cost recovery fees that are affected by this notice:

Plan/permit action | 2008 fee amount | Citation | 2012 fee amount
Conservation Information Document | $25,629 | § 550.296(a) | $27,348.
Designation of Operator (change of) | $164 | § 550.143(d) | $175.
Development and Production Plan (DPP) or Development Operations Coordination Document (DOCD) | $3,971 for each well proposed; no fee for revisions | § 550.24 | $4,238 for each well proposed; no fee for revisions.
Non-Required Document Filing Fee | $27 | § 556.63 | $29.
Exploration Plan (EP) | $3,442 for each surface location; no fee for revisions | § 550.211(d) | $3,673 for each surface location; no fee for revisions.
Record Title/Operating Rights (Transfer) | $186 | § 556.63 | $198.
Right-of-Use and Easement (RUE) for State lessee | $2,569 | § 550.165 | $2,742.

Authority: 43 U.S.C. 1331-1356 (2002).

Dated: January 18, 2013.
Tommy P. Beaudreau,
Director, Bureau of Ocean Energy Management.

[FR Doc. 2013-01671 Filed 1-25-13; 8:45 am]

BILLING CODE 4310-MR-P